DEPARTMENT OF JUSTICE

Drug Enforcement Administration

[Docket No. DEA-690]

Importer of Controlled Substances Application: Curium US LLC

ACTION: Notice of application.

DATES: Registered bulk manufacturers of the affected basic class(es), and applicants therefore, may file written comments on or objections to the issuance of the proposed registration on or before September 2, 2020. Such persons may also file a written request for a hearing on the application on or before September 2, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 8, 2020, Curium US LLC, 2703 Wagner Place, Maryland Heights, Missouri 63043-3421, applied to be registered as an importer of the following basic class(es) of a controlled substance:

Controlled substance | Drug code | Schedule
Ecgonine | 9180 | II

The company plans to import small quantities of the above-listed controlled substance to be used in diagnostic testing.

William T. McDermott,
Assistant Administrator.

[FR Doc. 2020-16774 Filed 7-31-20; 8:45 am]

BILLING CODE 4410-09-P